NATIONAL SCIENCE FOUNDATION

Advisory Committee for International Science and Engineering; Notice of Meeting

In accordance with the Federal Advisory Committee Act (Pub. L. 92-463, as amended), the National Science Foundation (NSF) announces the following meeting:

Name and Committee Code: Advisory Committee for International Science and Engineering (AC-ISE) Meeting (#25104).

Date and Time:

Tuesday, June 18, 2019; 9:00 a.m. to 5:00 p.m. (EST)

Wednesday, June 19, 2019; 8:00 a.m. to 12:00 p.m. (EST)

Place: National Science Foundation, 2415 Eisenhower Avenue, Alexandria, VA 22314.

To help facilitate your entry into the NSF building, please contact Victoria Fung (vfung@nsf.gov) on or prior to June 13, 2019.

Type of Meeting: Open.

Contact Person: Bridget Turaga, Acting AC-ISE Executive Secretary/OISE Program Manager; National Science Foundation, 2415 Eisenhower Avenue, Alexandria, Virginia 22314; Email/Phone: ac-ise@nsf,gov/703.292.7560.

Purpose of Meeting: To provide advice, recommendations and counsel on major goals and policies pertaining to international programs and activities.

Agenda Summary:

• Updates on International Science and Engineering Activities

• Updates on MULTIPlying Impact Leveraging International Expertise in Research (MULTIPLIER)

• Discussion on Science and Security

• Meeting with NSF Leadership

• Updates on Strategic Visioning

• Discussion on NSF Engagement in International Multilateral Efforts

• Presentation on Convergence Accelerators

Dated: May 15, 2019.
Crystal Robinson,
Committee Management Officer.

[FR Doc. 2019-10577 Filed 5-20-19; 8:45 am]

BILLING CODE 7555-01-P